DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 11, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on August 4, 2020.
Donald P. Burger,
Chief, General Approvals and Permits Branch.

Application No. | Applicant | Regulation(s) affected | Nature of the Special Permits thereof
SPECIAL PERMITS DATA
21071-N | Norfolk Southern Railway Company | 174.85 | To authorize the transportation in commerce of rail shipments without using buffer cars as required by 49 CFR 174.85. (mode 2)
21072-N | Isotek Systems, LLC | 173.417(b)(1), 173.427(a)(3), 173.453(d) | To authorize the transportation in commerce of LSA-II radioactive material in alternative packaging. (mode 1)
21073-N | Bollore Logistics Germany Gmbh | 172.101(j), 172.300, 172.400, 173.301, 173.301, 173.302a(a)(1), 173.304a(a)(2) | To authorize the transportation in commerce of certain non-DOT specification containers containing certain Division 2.1, 2.2, 2.3 liquefied and compressed gases and other hazardous materials for use in specialty cooling applications such as satellites and military aircraft. (modes 1, 4)
21074-N | Zhejiang Meenyu Can Industry Co., Ltd | 173.304(a), 173.304(d) | To authorize the manufacture, mark, sale and use of a non-refillable, non-DOT specification inside metal container similar to a DOT specification 2Q. (modes 1, 2, 3)
21075-N | Aerojet Rocketdyne, Inc | 172.200(a), 172.201(a) | To authorize the transportation in commerce of explosives between manufacturing facility and storage bunkers along approximately 5 miles of unpopulated low traffic highway without shipping papers. (mode 1)
21077-N | Kraton Corporation | 173.31(d)(1)(ii) | To authorize the transportation in commerce of tank cars that have been leakage tested in lieu of visually inspected prior to shipping. (mode 2)
21080-N | Visuray LLC | 173.222(c)(3) | To authorize the transportation in commerce of machinery/apparatus containing quantities of Division 2.2 gases in excess of what is authorized in 173.222. (modes 1, 2, 3, 4, 5)
21083-N | Alliant Techsystems Operations LLC | 172.200, 172.300, 172.604, 172.400, 172.500 | To authorize the transportation in commerce of hazardous materials a short distance between two facilities without utilizing hazard communication. (mode 1)
21084-N | Samsung SDI America, Inc | 172.101(j) | To authorize the transportation in commerce of lithium batteries in excess of 35 kg by cargo-only aircraft. (mode 4)
21085-N | Omron Robotics And Safety Technologies, Inc | 172.101(j) | To authorize the transportation in commerce of lithium batteries exceeding 35 kg by cargo-only aircraft. (mode 4)
21086-N | Carmi Flavor And Fragrance Company, Inc | 173.120(a) | To authorize the transportation in commerce of flammable liquids below their flashpoint without being regulated as hazardous materials. (mode 1)
21087-N | Wates—Istanbul Genlesme Ve Hidrofor Tanklari Makine San. Ve Tic. As | 173.306(g)(1) | To authorize the transportation in commerce of water pumps charged with a compressed gas that vary from the required size of 173.306(g). (modes 1, 2, 3)
21088-N | Logbatt GmbH | 173.24(g) | To authorize the manufacture, mark, sale, and use of packagings that vent for the purpose of transporting damaged, defective, and recalled batteries. (modes 1, 2, 3)
21089-N | Procyon-alpha Squared, Inc | 172.200, 172.300, 172.600, 172.400 | To authorize the manufacture, mark, sale, and use of packaging for use with end-of-life/waste lithium ion cells, batteries and lithium ion cells and batteries contained in equipment shipped for recycling or disposal. (mode 1)
21090-N | Shijiazhuang Enric Gas Equipment Co., Ltd | 180.205 | To authorize the use of UE testing for DOT 3AA, 3AAX, 3T and UN ISO 11120 cylinders in place of the internal visual inspection and the hydrostatic test method required in § 180.205. (modes 1, 2, 3)

[FR Doc. 2020-17603 Filed 8-11-20; 8:45 am]

BILLING CODE 4909-60-P